DEPARTMENT OF COMMERCE

National Oceanic and Atmospheric Administration

[I.D. 011001B]

Observer Workshop Survey

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 19, 2001.

ADDRESSES: Direct all written comments to Madeleine Clayton, Departmental Forms Clearance Officer, Department of Commerce, Room 6086, 14th and Constitution Avenue NW, Washington, DC 20230 (or via Internet at MClayton@doc.gov).

FOR FURTHER INFORMATION CONTACT: Requests for additional information or copies of the information collection instrument(s) and instructions should be directed to Vicki Cornish or Margaret Toner, NMFS, F/ST1, 1315 East-West Highway; Silver Spring, MD 20910 (phone 301-713-2328, ext. 163).

SUPPLEMENTARY INFORMATION:

I. Abstract

NOAA Fisheries hosted two observer workshops, in 1998 and 2000, which brought together managers and scientists from the United States, Canada and other countries to share ideas and resolve key issues of common interest regarding fishery observer programs. In 2002, NOAA Fisheries will be hosting another observer workshop. The purpose of the collection is to gather information from participants in the previous workshops and from new potential participants in order to plan the format and content for the next observer workshop such that it will provide the greatest benefit to the performance of the NOAA Fisheries observer program.

II. Method of Collection

The information will be collected by having a survey form available on a NOAA web site.

III. Data

OMB Number: None.

Form Number: None.

Type of Review: Regular submission.

Affected Public: State, local, or tribal government; business and other for-profit organizations; not-for-profit institutions, individuals.

Estimated Number of Respondents: 350 (every two years).

Estimated Time Per Response: 15 minutes.

Estimated Total Annual Burden Hours: 44.

Estimated Total Annual Cost to Public: $0.

IV. Request for Comments

Comments are invited on: (a) Whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 9, 2001.
Gwellnar Banks,
Management Analyst, Office of the Chief Information Officer.

[FR Doc. 01-1371 Filed 1-16-01; 8:45 am]

BILLING CODE 3510-22-S